DEPARTMENT OF THE INTERIOR

Office of the Secretary

U.S. Coral Reef Task Force Public Meeting and Public Comment

AGENCY: Department of the Interior, Office of Policy and International Affairs.

ACTION: Notice of public meeting; request for public comment.

SUMMARY: We, the U.S. Department of the Interior, announce a public meeting of the U.S. Coral Reef Task Force and a request for written comments. This meeting, the 32nd biannual meeting of the task force, provides a forum for coordinated planning and action among Federal agencies, State and territorial governments, and nongovernmental partners.

DATES: Meeting Dates: September 8, 2014, through September 13, 2014. Advance Public Comments: Submit by August 20, 2014.

ADDRESSES: Meetings will be held at the Westin Maui Hotel, 2365 Ka'anapali Parkway, Maui, Hawaii 96761 (phone number 808-921-4651).

FOR FURTHER INFORMATION CONTACT: Liza Johnson, DOI U.S. Coral Reef Task Force Steering Committee Point of Contact, U.S. Department of the Interior, MS-3530-MIB, 1849 C Street NW., Washington, DC 20240 (phone: 202-208-1378; fax: 202-208-4867; email: Liza_M_Johnson@ios.doi.gov); or visit the USCRTF Web site at www.coralreef.gov.

SUPPLEMENTARY INFORMATION: Established by Presidential Executive Order 13089 in 1998, the U.S. Coral Reef Task Force has a mission to lead, coordinate, and strengthen U.S. government actions to better preserve and protect coral reef ecosystems. The Departments of Commerce and the Interior co-chair the task force, whose members include leaders of 12 Federal agencies, 2 U.S. States and 5 U.S. territories, and 3 freely associated States. For more information about the meetings, draft agendas, and how to register, go to www.coralreef.gov. A written summary of the meeting will be posted on the Web site after the meeting.

Registration To Attend the Meeting

Attendees can register online before the start of the meeting, or on site at the registration desk. Registration details will be announced on the task force Web site at www.coralreef.gov.

Public Comments

Comments may address the meeting, the role of the USCRTF, or general coral reef conservation issues. Copies of comments given at the meeting can be submitted afterwards in writing to Liza Johnson by email, fax, or mail (see FOR FURTHER INFORMATION CONTACT) by September 26, 2014.

Public Availability of Comments

Before including your address, phone number, email address, or other personal identifying information in your comment, you should be aware that your entire comment—including your personal identifying information—may be made publicly available at any time. While you can ask us in your comment to withhold your personal identifying information from public review, we cannot guarantee that we will be able to do so.

Dated: July 11, 2014.
Willie Taylor,
Acting Deputy Assistant Secretary for Policy and International Affairs, Department of the Interior.

[FR Doc. 2014-16925 Filed 7-17-14; 8:45 am]

BILLING CODE 4310-RK-P